DEPARTMENT OF THE TREASURY

Agency Information Collection Activities; Submission for OMB Review; Comment Request; Application for Amended Basic Permit Under the Federal Alcohol Administration Act

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before January 25, 2018 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW, Suite 8142, Washington, DC 20220, or email at PRA@treasury.gov.

FOR FURTHER INFORMATION CONTACT: Copies of the submissions may be obtained from Jennifer Quintana by emailing PRA@treasury.gov, calling (202) 622-0489, or viewing the entire information collection request at www.reginfo.gov.

SUPPLEMENTARY INFORMATION:

Alcohol and Tobacco Tax & Trade Bureau (TTB)

Title: Application for Amended Basic Permit under the Federal Alcohol Administration Act.

OMB Control Number: 1513-0019.

Type of Review: Extension without change of a currently approved collection.

Abstract: The FAA Act, at 27 U.S.C. 203, requires that a person apply for and receive a permit, known as a “basic permit,” to engage in the business of importing distilled spirits, wine, or malt beverages into the United States; to engage in the business of distilling spirits or producing wine, rectifying or blending distilled spirits or wine, or bottling and/or warehousing distilled spirits; or to engage in the business of purchasing for resale at wholesale, distilled spirits, wine, or malt beverages. The FAA Act, at 27 U.S.C. 204, also imposes certain requirements for basic permits and authorizes the Secretary of the Treasury to prescribe the manner and form of all applications for basic permits. Under that authority, the TTB regulations in 27 CFR part 1 require basic permit holders to apply for an amended permit using form TTB F 5100.18 when changes occur in the name, trade name, or address of the permitted business. The regulations also require that a permittee immediately notify TTB of any change in ownership, management, or control of the permitted business, which may be done using TTB F 5100.18. (Such applications and notifications also may be submitted via TTB's electronic Permits Online (PONL) system.) The collected information assists TTB in determining whether an applicant for an amended basic permit meets the criteria for eligibility for such a permit under the FAA Act.

Form: TTB F 5100.18.

Affected Public: Businesses or other for-profits.

Estimated Total Annual Burden Hours: 1,170.

Authority: 44 U.S.C. 3501 et seq.

Dated: December 19, 2017.
Spencer W. Clark,
Treasury PRA Clearance Officer.

[FR Doc. 2017-27667 Filed 12-22-17; 8:45 am]

BILLING CODE 4810-31-P